DEPARTMENT OF HEALTH AND HUMAN SERVICES

National Institutes of Health

National Institute of Nursing Research; Amended Notice of Meeting

Notice is hereby given of a change in the meeting of the National Institute of Nursing Research Special Emphasis Panel, April 21, 2025, 8 a.m. to April 23, 2025, 5 p.m., NINR, 6700B Rockledge Drive, Bethesda, MD, 20892 which was published in the Federal Register on March 19, 2025, 90 FR 12749.

This meeting is being amended due to a change in the meeting dates. The new meeting dates are April 22-23, 2025. The time of the meeting will remain the same. This meeting will be virtual and closed to the public.

Dated: April 09, 2025.
Bruce A. George,
Program Analyst, Office of Federal Advisory Committee Policy.

[FR Doc. 2025-06308 Filed 4-11-25; 8:45 am]

BILLING CODE 4140-01-P